DEPARTMENT OF COMMERCE

National Oceanic and Atmospheric Administration

50 CFR Part 622

[Docket No. 100501208-0208-01]

RIN 0648-AY87

Fisheries of the Caribbean, Gulf of Mexico, and South Atlantic; Emergency Fisheries Closure in the Gulf of Mexico Due to the Deepwater Horizon Oil Spill

AGENCY: National Marine Fisheries Service (NMFS), National Oceanic and Atmospheric Administration (NOAA), Commerce.

ACTION: Emergency rule; request for comments.

SUMMARY: NMFS issues this emergency rule to close a portion of the Gulf of Mexico (Gulf) exclusive economic zone (EEZ) to all fishing, in response to the Deepwater Horizon oil spill. The closure was applicable May 2, 2010, and will remain in effect for 10 days, unless conditions allow NMFS to terminate it sooner. NMFS will continue to monitor and evaluate the oil spill and its impacts on Gulf fisheries and will take immediate and appropriate action to extend or reduce this closed area. This closure is implemented for public safety.

DATES: This rule is effective May 3, 2010 through 12:01 a.m., local time, May 12, 2010. The closure was applicable on May 2, 2010. Comments may be submitted through May 11, 2010.

ADDRESSES: You may submit comments on this rule, identified by “0648-AY87” by any of the following methods:

• Electronic Submissions: Submit all electronic public comments via the Federal e-Rulemaking Portal: http://www.regulations.gov.

• Fax: 727-824-5308; Attention: Cynthia Meyer.

• Mail: Cynthia Meyer, Southeast Regional Office, NMFS, 263 13th Avenue South, St. Petersburg, FL 33701.

Instructions: No comments will be posted for public viewing until after the comment period. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2010-0100” in the keyword search, then select “Send a Comment or Submission.” NMFS will accept anonymous comments (enter N/A in the required fields, if you wish to remain anonymous). You may submit attachments to electronic comments in Microsoft Word, Excel, WordPerfect, or Adobe PDF file formats only.

FOR FURTHER INFORMATION CONTACT: Cynthia Meyer, telephone: 727-551-5753, fax: 727-824-5308, e-mail: cynthia.meyer@noaa.gov.

SUPPLEMENTARY INFORMATION: This emergency action is taken in response to the April 20, 2010 Deepwater Horizon oil spill, which originated approximately 41 miles (66 km) offshore from Louisiana, and which currently covers an area in the Gulf of approximately 6,817 square miles (17,655 square km). The oil leaking from the Deepwater Horizon drilling rig has resulted in more than 1 million gallons (3.8 million liters) of oil being released into the Gulf of Mexico. NMFS is currently assessing the impacts this oil spill will have on the fishing industry. NMFS is closing the portion of the Gulf EEZ where the oil slick resides for public safety concerns. This action temporarily closes the area bound by the following coordinates to all fishing: From the point where 88°33′ W. long. intersects with the 3 nautical mile state line south of Pascagoula, MS; proceeding southeasterly to the point 29°54.5′ N. lat. and 88°24′ W. long.; thence, easterly to the point 29°54.5′ N. lat. and 86°55′ W. long.; thence, southwesterly to the point 28°40′ N. lat. and 88°20′ W. long.; thence, northwesterly to the point where 29° N. lat. intersects with the 3 nautical mile state line east of Garden Island Bay, LA; thence along the seaward limit of Louisiana's waters and Mississippi's waters, as shown on the current edition of NOAA chart 11360.

NMFS will continue to monitor and evaluate the oil spill and its impacts to Gulf fisheries. When more updated information becomes available, NMFS will take immediate and appropriate action to extend or reduce this closed area by publishing an amendment to this emergency rule in the Federal Register and by posting to the NMFS Southeast Regional Office website.

Classification

This action is issued pursuant to section 305(c) of the Magnuson-Stevens Fishery Conservation and Management Act (Magnuson-Stevens Act), 16 U.S.C. 1855(c).

NMFS has consulted with OIRA and due to exigent circumstances this action is exempt from review under Executive Order 12866.

Pursuant to 40 CFR 1506.11, NMFS has consulted with the Council for Environmental Quality.

The Assistant Administrator for Fisheries, NOAA (AA), finds good cause under 5 U.S.C. 553(b)(B) to waive prior notice and the opportunity for public comment. Prior notice and opportunity for public comment would be contrary to the public interest, as delaying action constitutes a public safety concern. NMFS is implementing this closure in the response to the oil spill to help prevent any potential injuries to fishermen in the area. Any delay of implementation of this fisheries closure could constitute unsafe fishing conditions for the fishing industry.

For the reasons stated above, the AA also finds good cause to waive the 30-day delay in effective date of this rule under 5 U.S.C 553(d)(3).

Because prior notice and opportunity for public comment are not required for this rule by 5 U.S.C. 553 or any other law, the analytical requirements of the Regulatory Flexibility Act, 5 U.S.C. 601 et seq. are inapplicable.

List of Subjects in 50 CFR Part 622

Fisheries, Fishing, Puerto Rico, Reporting and recordkeeping requirements, Virgin Islands.

Dated: May 2, 2010
John Oliver,
Deputy Assistant Administrator for Operations, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.34, paragraph (n) is added to read as follows:

§ 622.34 Gulf EEZ seasonal and/or area closures.

(n) Gulf EEZ area closure. Effective May 2, 2010 through 12:01 a.m., local time, May 12, 2010, all fishing is prohibited in the portion of the Gulf EEZ bounded by rhumb lines connecting the following points: From the point where 88°33′ W. long. intersects with the 3 nautical mile state line south of Pascagoula, MS; proceeding southeasterly to the point 29°54.5′ N. lat. and 88°24′ W. long.; thence, easterly to the point 29°54.5′ N. lat. and 86°55′ W. long.; thence, southwesterly to the point 28°40′ N. lat. and 88°20′ W. long.; thence, northwesterly to the point where 29° N. lat. intersects with the 3 nautical mile state line east of Garden Island Bay, LA; thence along the seaward limit of Louisiana's waters and Mississippi's waters, as shown on the current edition of NOAA chart 11360.

[FR Doc. 2010-10661 Filed 5-3-10; 12:00 pm]

BILLING CODE 3510-22-S